DEPARTMENT OF COMMERCE

International Trade Administration

[C-533-844]

Certain Lined Paper From India: Notice of Partial Rescission of Countervailing Duty Administrative Review

AGENCY: Import Administration, International Trade Administration, Department of Commerce.

DATES: Effective Date: December 13, 2012.

FOR FURTHER INFORMATION CONTACT: John Conniff, AD/CVD Operations, Office 8, Import Administration, International Trade Administration, U.S. Department of Commerce, 14th Street and Constitution Avenue NW., Washington, DC 20230; telephone: (202) 482-1009.

SUPPLEMENTARY INFORMATION:

Background

On September 4, 2012, the Department of Commerce (the Department) published a notice of opportunity to request an administrative review of the countervailing duty order on certain lined paper from India.¹

¹ See Antidumping or Countervailing Duty Order, Finding, Or Suspended Investigation; Opportunity to Request Administrative Review, 77 FR 53863 (September 4, 2012).

Pursuant to requests from interested parties, the Department published in the Federal Register the notice of initiation of this countervailing duty administrative review with respect to 82 companies for the period January 1, 2011, through December 31, 2011.² On November 27, 2012, petitioners ³ withdrew their review request.⁴

² See Initiation of Antidumping and Countervailing Duty Administrative Reviews and Request for Revocation in Part, 77 FR 65858 (October 31, 2012) (Initiation).

³ Petitioners are the Association of American School Paper Suppliers.

⁴ See petitioners' November 27, 2012, Withdrawal of Request for Administrative Review.

Partial Rescission of the 2011 Administrative Review

Pursuant to 19 CFR 351.213(d)(1), the Secretary will rescind an administrative review, in whole or in part, if the parties that requested a review withdraw the request within 90 days of the date of publication of the notice of initiation of the requested review. The Department initiated the instant review on October 31, 2012.⁵ The petitioners' withdrawal request was submitted within the 90-day period and, thus, is timely. Therefore, in accordance with 19 CFR 351.213(d)(1), and consistent with our practice, we are rescinding this review of the countervailing duty order on certain lined paper from India with respect to the companies requested by petitioner.⁶ The instant review will continue with respect to Navneet Publications (India) Ltd. and A.R. Printing & Packaging India Pvt. Ltd. both of whom requested a review.

⁵ See Initiation.

⁶ See petitioner's September 28, 2012, Request for Administrative Review for a full list of all the companies requested.

Assessment

The Department will instruct U.S. Customs and Border Protection (CBP) to assess countervailing duties on all appropriate entries. For the companies for which this review is rescinded countervailing duties shall be assessed at rates equal to the cash deposit of estimated countervailing duties required at the time of entry, or withdrawal from warehouse, for consumption, during the period January 1, 2011, through December 31, 2011, in accordance with 19 CFR 351.212(c)(1)(i).

The Department intends to issue appropriate assessment instructions directly to CBP 15 days after publication of this notice.

Notification Regarding Administrative Protective Order

This notice serves as a final reminder to parties subject to administrative protective orders (APOs) of their responsibility concerning the disposition of proprietary information disclosed under an APO in accordance with 19 CFR 351.305(a)(3), which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Tariff Act of 1930, as amended, and 19 CFR 351.213(d)(4).

Dated: December 7, 2012.
Christian Marsh,
Deputy Assistant Secretary for Antidumping and Countervailing Duty Operations.

[FR Doc. 2012-30118 Filed 12-12-12; 8:45 am]

BILLING CODE 3510-DS-P